DEPARTMENT OF JUSTICE

Notice of Lodging of Consent Decree Under the Comprehensive Environmental Response, Compensation, and Liability Act

Notice is hereby given that on August 8, 2006, a proposed Consent Decree in United States v. University of Miami, Civil Action Number 06-22000-CIV-JORDAN, was lodged with the United States District Court for the Southern District of Florida.

In this action the United States sought, under Section 107 of the Comprehensive Environmental Response, Compensation, and Liability Act, 42 U.S.C. 9607, recovery of response costs incurred by the Army Corps of Engineers in response to releases of hazardous substances at a site located on land that was formerly the Richmond Naval Air Station, in Perrine, Florida. Under the Consent Decree, the Defendant will pay $393,473 for past response costs associated with the site, and the United States gives a covenant not to sue for past response costs associated with the site.

The Department of Justice will receive, for a period of thirty (30) days from the date of this publication, comments relating to the proposed Consent Decree. Comments should be addressed to the Assistant Attorney General, Environment and Natural Resources Division, P.O. Box 7611, U.S. Department of Justice, Washington, DC 20044-7611, and should refer to United States v. University of Miami, DOJ Ref. #90-11-3-08486.

The Consent Decree may be examined at the Office of the United States Attorney for the Southern District of Florida, 99 NE 4th Street, Miami, Florida. During the public comment period, the proposed Consent Decree may be examined on the following Department of Justice Web site: http://www.usdoj.gov/enrd/consent_Decrees.html. A copy of the proposed Consent Decree may also be obtained by mail from the Consent Decree Library, P.O. Box 7611, U.S. Department of Justice, Washington, DC 20044-7611, or by faxing or E-mailing a request to Tonia Fleetwood, tonia.fleetwood@usdoj.gov, Fax No. (202) 514-0097, phone confirmation number (202) 514-1547. In requesting a copy from the Consent Decree Library, please enclose a check in the amount of $4.25 (25 cents per page reproduction cost) payable to the U.S. Treasury, or, if by E-mail or fax, forward a check in that amount to the Consent Decree Library at the stated address.

Henry Friedman,
Assistant Section Chief, Environmental Enforcement Section, Environment and Natural Resources Division.

[FR Doc. 06-7106 Filed 8-23-06; 8:45am]

BILLING CODE 4410-15-M